GENERAL SERVICES ADMINISTRATION

[OMB Control No. 3090-00XX; Docket 2010-0002; Sequence 9]

General Services Administration Acquisition Regulation; Submission for OMB Review; Submission and Distribution of Authorized FSS Schedule Price Lists, Contract Price Lists, and Dissemination of Information by Contractor

AGENCY: Office of the Chief Acquisition Officer, GSA.

ACTION: Notice of a request for comments regarding a new OMB clearance.

SUMMARY: Under the provisions of the Paperwork Reduction Act of 1995 (44 U.S.C. Chapter 35), the General Services Administration will be submitting to the Office of Management and Budget (OMB) a request to review and approve a new information collection requirement regarding Submission and Distribution of Authorized FSS Schedule Price Lists, Contract Price Lists, and Dissemination of Information by Contractor. A request for public comments was published in the Federal Register at 74 FR 4596, January 26, 2009. No comments were received.

Public comments are particularly invited on: Whether this collection of information is necessary and whether it will have practical utility; whether our estimate of the public burden of this collection of information is accurate, and based on valid assumptions and methodology; ways to enhance the quality, utility, and clarity of the information to be collected.

DATES: Submit comments on or before: April 19, 2010.

FOR FURTHER INFORMATION CONTACT: Mr. Warren Blankenship, Procurement Analyst, Contract Policy Branch, at telephone (202) 501-1900 or via e-mail at warren.blankenship@gsa.gov.

ADDRESSES: Submit comments regarding this burden estimate or any other aspect of this collection of information, including suggestions for reducing this burden, to the GSA Desk Officer, OMB, Room 10236, NEOB, Washington, DC 20503, and a copy to the Regulatory Secretariat (MVCB), General Services Administration, 1800 F Street, NW., Room 4041, Washington, DC 20405. Please cite OMB Control No. 3090-00XX, Submission and Distribution of Authorized FSS Schedule Price Lists, Contract Price Lists, and Dissemination of Information by Contractor, in all correspondence.

SUPPLEMENTARY INFORMATION:

A. Purpose

GSAR clauses 552.238-13—Contract Price Lists, 552.238-65—Submission and Distribution of Authorized FSS Schedule Price Lists, and 552.238-81—Dissemination of Information by Contractor are required because FSS Contractors are responsible for printing and distributing their Authorized FSS Schedule Price List after award and/or after a specific modification(s) as well as disseminating the price lists to all of its authorized sales outlets.

B. Annual Reporting Burden

Number of Respondents: 18,000.

Responses per Respondent: 3.5.

Annual Responses: 63,000.

Average Burden per Response: 5.

Total Burden Hours: 315,000.

Public reporting burden for this collection of information is estimated to average 5 hours per response, including the time for reviewing instructions, searching existing data sources, gathering and maintaining the data needed, and completing and reviewing the collection of information.

Obtaining Copies of Proposals: Requesters may obtain a copy of the information collection documents from the General Services Administration, Regulatory Secretariat (MVCB), 1800 F Street, NW., Room 4041, Washington, DC 20405, telephone (202) 501-4755. Please cite OMB Control No. 3090-00XX, Submission and Distribution of Authorized FSS Schedule Price Lists, Contract Price Lists, and Dissemination of Information by Contractor, in all correspondence.

Dated: March 5, 2010.
Al Matera,
Director, Acquisition Policy Division.

[FR Doc. 2010-5930 Filed 3-17-10; 8:45 am]

BILLING CODE 6820-34-P